DEPARTMENT OF ENERGY

Federal Energy Regulatory Commission

Combined Notice of Filings #1

Take notice that the Commission received the following electric rate filings:

Docket Numbers: ER16-2044-001.

Applicants: Elk Hills Power, LLC.

Description: Notice of Non-Material Change in Status of Elk Hills Power, LLC.

Filed Date: 2/8/22.

Accession Number: 20220208-5152.

Comment Date: 5 p.m. ET 3/1/22.

Docket Numbers: ER20-1719-004.

Applicants: PPL Electric Utilities Corporation, PJM Interconnection, L.L.C.

Description: Compliance filing: PPL Electric Utilities Corporation submits tariff filing per 35: PPL Electric submits compliance filing in ER20-1719 to be effective 1/27/2020.

Filed Date: 2/9/22.

Accession Number: 20220209-5126.

Comment Date: 5 p.m. ET 3/2/22.

Docket Numbers: ER20-2926-002.

Applicants: Altamont Winds LLC.

Description: Compliance filing: Altamont Winds LLC Change in Status to be effective 2/10/2022.

Filed Date: 2/9/22.

Accession Number: 20220209-5089.

Comment Date: 5 p.m. ET 3/2/22.

Docket Numbers: ER21-2438-003.

Applicants: Southwest Power Pool, Inc.

Description: Tariff Amendment: 3630SR1 Maverick Wind Project GIA—Deficiency Response to be effective 6/29/2021.

Filed Date: 2/9/22.

Accession Number: 20220209-5130.

Comment Date: 5 p.m. ET 3/2/22.

Docket Numbers: ER21-2990-000.

Applicants: MidAmerican Central California Transco, LLC.

Description: Annual Informational Appendix F, Schedule 3 filing of MidAmerican Central California Transco, LLC.

Filed Date: 9/29/21.

Accession Number: 20210929-5186.

Comment Date: 5 p.m. ET 3/2/22.

Docket Numbers: ER22-108-001.

Applicants: Southwest Power Pool, Inc.

Description: Tariff Amendment: Deficiency Response—Modify Minimum Capitalization Requirements to be effective 4/30/2022.

Filed Date: 2/9/22.

Accession Number: 20220209-5120.

Comment Date: 5 p.m. ET 3/2/22.

Docket Numbers: ER22-646-000.

Applicants: Horizon West Transmission, LLC.

Description: Annual Informational Appendix F, Schedule 3 filing of Horizon West Transmission, LLC.

Filed Date: 12/13/21.

Accession Number: 20211213-5257.

Comment Date: 5 p.m. ET 3/2/22.

Docket Numbers: ER22-1004-000.

Applicants: The Narragansett Electric Company.

Description: § 205(d) Rate Filing: 2022-02-08 Narragansett Borderline Tariff Amendment filing to be effective 2/9/2022.

Filed Date: 2/8/22.

Accession Number: 20220208-5131.

Comment Date: 5 p.m. ET 3/1/22.

Docket Numbers: ER22-1005-000.

Applicants: NorthWestern Corporation.

Description: § 205(d) Rate Filing: RS 257 2nd Rev, Regulation and Frequency Response Self-Supply Agreement with BPA to be effective 3/1/2022.

Filed Date: 2/9/22.

Accession Number: 20220209-5032.

Comment Date: 5 p.m. ET 3/2/22.

Docket Numbers: ER22-1006-000.

Applicants: PJM Interconnection, L.L.C.

Description: § 205(d) Rate Filing: Original WMPA, Service Agreement No. 6331; Queue No. AG2-012 to be effective 1/13/2022.

Filed Date: 2/9/22.

Accession Number: 20220209-5068.

Comment Date: 5 p.m. ET 3/2/22.

Docket Numbers: ER22-1007-000.

Applicants: New York Independent System Operator, Inc.

Description: § 205(d) Rate Filing: 205 EPC Agreement among NYISO, Holcim, Hecate Energy(SA 2670) to be effective 1/26/2022.

Filed Date: 2/9/22.

Accession Number: 20220209-5094.

Comment Date: 5 p.m. ET 3/2/22.

Docket Numbers: ER22-1008-000.

Applicants: AEP Texas Inc.

Description: § 205(d) Rate Filing: AEPTX-ETT (Salvare) Facilities Development Agreement to be effective 1/27/2022.

Filed Date: 2/9/22.

Accession Number: 20220209-5105.

Comment Date: 5 p.m. ET 3/2/22.

Docket Numbers: ER22-1009-000.

Applicants: AEP Texas Inc.

Description: § 205(d) Rate Filing: AEPTX-Blue Sky Solar Generation Interconnection Agreement to be effective 2/1/2022.

Filed Date: 2/9/22.

Accession Number: 20220209-5116.

Comment Date: 5 p.m. ET 3/2/22.

Docket Numbers: ER22-1010-000.

Applicants: TerraForm IWG Acquisition Holdings II, LLC.

Description: Baseline eTariff Filing: Market-Based Rate Application to be effective 4/11/2022.

Filed Date: 2/9/22.

Accession Number: 20220209-5141.

Comment Date: 5 p.m. ET 3/2/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 9, 2022.
Debbie-Anne A. Reese,
Deputy Secretary.

[FR Doc. 2022-03209 Filed 2-14-22; 8:45 am]

BILLING CODE 6717-01-P